COURT SERVICES AND OFFENDER SUPERVISION AGENCY FOR THE DISTRICT OF COLUMBIA

28 CFR Chapter VIII

[CSOSA-0001]

RIN 3225-ZA00

Organization and Functions

AGENCY: Court Services and Offender Supervision Agency for the District of Columbia.

ACTION: Final rule.

SUMMARY: The Court Services and Offender Supervision Agency for the District of Columbia (“CSOSA”) is issuing regulations describing its organization and general functions. This description includes information on the District of Columbia Pretrial Services Agency (“PSA”), an independent entity within CSOSA. CSOSA provides supervisory and treatment services to individuals on probation, parole and supervised release for District of Columbia Code violations. CSOSA also provides supervisory and treatment services to offenders from other jurisdictions in accordance with the Interstate Parole and Probation Compact. PSA supervises, monitors and provides treatment services to defendants in the U.S. District Court and the United States Court of Appeals for the District of Columbia Circuit and to individuals on pretrial release for District of Columbia Code violations.

EFFECTIVE DATE: January 8, 2001.

ADDRESSES: Office of General Counsel, CSOSA, Room 1253, 633 Indiana Avenue, NW., Washington, DC 20004.

FOR FURTHER INFORMATION CONTACT: Roy Nanovic, Records Manager; telephone (202) 220-5359; e-mail roy.nanovic@csosa.gov.

SUPPLEMENTARY INFORMATION: The Court Services and Offender Supervision Agency for the District of Columbia (“CSOSA”) was established within the Executive Branch of the Federal Government by the National Capital Revitalization and Self-Government Improvement Act of 1997 (“Revitalization Act”), Pub. L. 105-33, 111 Stat. 251, 712 (D.C. Code 24-1232, 24-1233). On August 4, 2000, CSOSA was certified by the Attorney General as an independent Federal agency.

The Revitalization Act requires CSOSA to provide supervision, through qualified supervision officers, to offenders on probation, parole, and supervised release for violation of District of Columbia Code offenses. Accordingly, CSOSA supervises all offenders placed on probation by the Superior Court of the District of Columbia, and all individuals on parole pursuant to the District of Columbia Code. CSOSA provides supervision to offenders from other jurisdictions in accordance with the provisions of the Interstate Parole and Probation Compact. In accordance with its supervisory functions and as authorized by the Sex Offender Registration Act of 1999 (DC Law 13-137, D.C. Code 24-1101 et seq.), CSOSA operates and maintains the sex offender registry for the District of Columbia.

The DC Pretrial Services Agency (“PSA”), an independent entity within CSOSA, assists the trial and appellate levels of both the federal and local courts in determining eligibility for pretrial release by providing verified background information and criminal histories on all arrestees and recommendations about available release options. PSA is further responsible for supervising defendants released from custody during the pretrial period by monitoring compliance with conditions of release and by ensuring that they appear for scheduled court hearings. PSA also provides defendants with the opportunity to participate in a variety of social intervention programs that decrease the likelihood of future criminal behavior.

CSOSA's mission is to increase public safety, prevent crime, reduce recidivism, and support the fair administration of justice in close collaboration with the community. Law enforcement agencies, the courts, corrections, and parole authorities each play critical roles in addressing crime and ensuring public safety. CSOSA, together with PSA, coordinates closely with these entities to fulfill its role in the criminal justice process by providing supervisory and treatment services to individuals on pretrial release, probation, parole and supervised release, and by assisting federal and local courts in determining eligibility for release.

CSOSA's regulations are being codified in Chapter VIII of Title 28 of the Code of Federal Regulations. Part 800 consists of a general statement of organization and functions, including addresses for CSOSA's and PSA's central and field offices, and addresses for submitting Freedom of Information Act/Privacy Act requests, legal process, and tort claims. A more detailed statement of organization and functions will appear in the “United States Government Manual.”

Matters of Regulatory Procedure

Administrative Procedure Act

Because this rule pertains to agency organization, CSOSA is issuing the rule as final without general notice of proposed rulemaking and without any delay in its effectiveness. Any interested person, however, who wishes to submit comments on the rule may do so by writing or e-mailing the agency at the addresses given above in the “Addresses” and “For Further Information Contact” captions.

Executive Order 12866

This rule falls within a category of actions that the Office of Management and Budget (OMB) has determined not to constitute “significant regulatory actions” under section 3(f) of Executive Order 12866 and, accordingly, CSOSA did not formally submit it to OMB for review.

Executive Order 13132

This rule will not have substantial direct effects on the States, on the relationship between the national government and the States, or on the distribution of power and responsibilities among the various levels of government. Therefore, in accordance with Executive Order 13132, the Director of CSOSA has determined that this rule does not have sufficient federalism implications to warrant the preparation of a Federalism Assessment.

Regulatory Flexibility Act

The Director of CSOSA, in accordance with the Regulatory Flexibility Act (5 U.S.C. 605(b)), has reviewed this rule and by approving it certifies that this rule will not have a significant economic impact upon a substantial number of small entities. This rule pertains to agency management, and its economic impact is limited to the agency's appropriated funds.

Unfunded Mandates Reform Act of 1995

This rule will not result in the expenditure by State, local and tribal governments, in the aggregate, or by the private sector, of $100,000,000 or more in any one year, and it will not significantly or uniquely affect small governments. Therefore, the Director of CSOSA has determined that no actions are necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Plain Language Instructions

We want to make CSOSA's documents easy to read and understand. If you have suggestions on how to improve the clarity of these regulations, write, e-mail, or call CSOSA's Records Manager (Roy Nanovic), at the address or telephone number given above in the “Addresses” and “For Further Information Contact” captions.

List of Subjects in 28 CFR Part 800

Organization and Functions (Government Agencies); Probation and Parole.

Jasper Ormond,
Interim Director.

Accordingly, we amend Title 28 of the Code of Federal Regulations by adding a new chapter VIII, consisting of Part 800 to read as follows:

Chapter VIII—Court Services and Offender Supervision Agency for the District of Columbia

PART 800—ORGANIZATION AND FUNCTIONS

Sec.
800.1 Statutory authorization.
800.2 Mission.
800.3 Functions and responsibilities.
800.4 Director.
800.5 Agency components.
Appendix A.

Authority: 5 U.S.C. 301; Pub. L. 105-33, 111 Stat. 251, 712 (D.C. Code 24-1232, 24-1233).

§ 800.1 Statutory authorization.

The National Capital Revitalization and Self-Government Improvement Act of 1997 (“Revitalization Act”) established the Court Services and Offender Supervision Agency for the District of Columbia (“CSOSA”) within the federal government as an independent executive branch agency and placed the District of Columbia Pretrial Services Agency as an independent entity within CSOSA. In addition, the District of Columbia Public Defender Service, an independent District of Columbia agency, receives its appropriated federal funds through a transfer from CSOSA.

§ 800.2 Mission.

CSOSA's mission is to increase public safety, prevent crime, reduce recidivism, and support the fair administration of justice in close collaboration with the community.

§ 800.3 Functions and responsibilities.

(a) Community Supervision Services. (1) The Revitalization Act requires CSOSA to provide supervision, through qualified supervision officers, to offenders on probation, parole, and supervised release for violation of District of Columbia Code offenses. The Agency carries out its responsibilities on behalf of the court or agency having jurisdiction over the person being supervised. Accordingly, CSOSA supervises all offenders placed on probation by the Superior Court of the District of Columbia, and all individuals on parole pursuant to the District of Columbia Code. CSOSA supervises offenders from other jurisdictions in accordance with the provisions of the Interstate Parole and Probation Compact.

(2) CSOSA is also required to determine uniform supervision and reporting practices, develop and operate intermediate sanctions programs for sentenced offenders, and arrange for the supervision of District of Columbia Code offenders in jurisdictions outside the District of Columbia.

(3) In accordance with its supervisory functions and as authorized by the Sex Offender Registration Act of 1999 (D.C. Law 13-137, D.C. Code 24-1101 et seq.), CSOSA operates and maintains the sex offender registry for the District of Columbia.

(b) Pretrial Services. (1) The District of Columbia Pretrial Services Agency (“PSA”) assists the trial and appellate levels of both the federal and local courts in determining eligibility for pretrial release by providing verified background information and criminal histories on all arrestees and recommendations about available release options.

(2) PSA is further responsible for supervising defendants released from custody during the pretrial period by monitoring compliance with conditions of release and by ensuring that they appear for scheduled court hearings.

(3) PSA also provides defendants with the opportunity to participate in a variety of social intervention programs that decrease the likelihood of future criminal behavior.

§ 800.4 Director.

(a) CSOSA is headed by a Director appointed by the President, by and with the advice and consent of the Senate, for a term of six years.

(b) PSA is headed by a Director appointed by the Chief Judge of the United States Court of Appeals for the District of Columbia Circuit and the Chief Judge of the United States District Court for the District of Columbia in consultation with an Executive Committee. The Executive Committee includes the four chief judges of the local and Federal trial and appellate courts, the United States Attorney for the District of Columbia, the Director of the District of Columbia Public Defender Service, and the Director of CSOSA.

§ 800.5 Agency components.

(a) CSOSA.

(1) Office of the Director (including the Deputy Director).

(2) Office of the General Counsel.

(3) Community Supervision Services.

(4) Office of Community Justice Programs.

(5) Special Criminal Justice Projects.

(6) Office of Planning and Evaluation.

(7) Office of Professional Responsibility.

(8) Equal Employment Opportunity, Diversity, and Special Programs.

(9) Office of Legislative, Intergovernmental, and Public Affairs.

(10) Information Technology Services.

(11) Office of Management and Administration.

(12) Office of Human Resources.

(b) PSA.

(1) Office of the Director (including the Deputy Director).

(2) Planning, Analysis and Evaluation.

(3) Community Justice Programs.

(4) Office of Operations (including Information Technology and Forensic Toxicology and Drug Testing Laboratory).

(5) Human Resources Management.

(6) Finance and Administration.

Appendix A to Part 800—Agency Addresses

I. Central Offices

Court Services and Offender Supervision Agency for the District of Columbia, 633 Indiana Avenue, NW., Washington, DC 20004

CSOSA Community Supervision Services, 300 Indiana Avenue, NW., Washington, DC 20001

District of Columbia Pretrial Services Agency, 633 Indiana Avenue, NW., Washington, DC 20004

II. Field Offices

Court Services and Offender Supervision Agency for the District of Columbia/Community Supervision Services

CSS Field Office, 409 E. Street, NW., Washington, DC 20001

CSS Field Office, 401 New York Avenue, NE., Washington, DC 20002

CSS Field Office, 1707 Kalorama Road, NW., Washington, DC 20009

CSS Field Office, 1418 Good Hope Road, SE., Washington, DC 20020

CSS Field Office, 3850 S. Capitol Street, SE., Washington, DC 20032

CSS Field Office, 1230 Taylor Street, NW., Washington, DC 20011

District of Columbia Pretrial Services Agency

Office of Operations Branch, 300 Indiana Avenue, NW., Washington, DC 20001

Office of Operations Branch, 500 Indiana Avenue, NW., Washington, DC 20001

Office of Operations Branch, 333 Constitution Avenue, NW., Washington, DC 20001

Office of Operations Branch, 601 Indiana Avenue, NW., Washington, DC 20004

IV. FOIA/PA Requests (CSOSA and PSA)

Office of the General Counsel (FOIA), Court Services and Offender Supervision Agency for the District of Columbia, 633 Indiana Avenue, NW., Washington, DC 20004

IV. Service of Process (CSOSA and PSA, except for PSA subpoenas)

Office of the General Counsel, Court Services and Offender Supervision Agency for the District of Columbia, 633 Indiana Avenue, NW., Washington, DC 20004

V. Tort Claims (CSOSA and PSA)

Office of the General Counsel, Court Services and Offender Supervision Agency for the District of Columbia, 633 Indiana Avenue, NW., Washington, DC 20004

[FR Doc. 01-395 Filed 1-5-01; 8:45 am]

BILLING CODE 3129-01-P